DEPARTMENT OF TRANSPORTATION

Federal Aviation Administration

14 CFR Part 39

[Docket No. FAA-2006-25634; Directorate Identifier 2006-NM-143-AD; Amendment 39-14844; AD 2006-25-03]

RIN 2120-AA64

Airworthiness Directives; Airbus Model A300 Airplanes

AGENCY: Federal Aviation Administration (FAA), Department of Transportation (DOT).

ACTION: Final rule.

SUMMARY: We are adopting a new airworthiness directive (AD) for the products listed above. This AD results from mandatory continuing airworthiness information (MCAI) issued by an airworthiness authority of another country to identify and correct an unsafe condition on an aviation product. The MCAI describes the unsafe condition as failure of pitch trim system 2 to deflect the trimmable horizontal stabilizer at maximum rate, which could result in loss of high-speed trim and consequent reduced controllability of the airplane. We are issuing this AD to require actions to correct the unsafe condition on these products.

DATES: This AD becomes effective January 11, 2007.

The Director of the Federal Register approved the incorporation by reference of a certain publication listed in this AD as of January 11, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Tom Stafford, Aerospace Engineer, International Branch, ANM-116, FAA, Transport Airplane Directorate, 1601 Lind Avenue, SW., Renton, Washington 98057-3371; telephone (425) 227-1622; fax (425) 227-1149.

SUPPLEMENTARY INFORMATION:

Discussion

The FAA is implementing a new process for streamlining the issuance of ADs related to MCAI. This streamlined process will allow us to adopt MCAI safety requirements in a more efficient manner and will reduce safety risks to the public. This process continues to allow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

We issued a notice of proposed rulemaking (NPRM) to amend 14 CFR part 39 to include an AD that would apply to the specified products. That NPRM was published in the Federal Register on August 18, 2006 (71 FR 47752). That NPRM proposed to require a periodic test to ensure the availability of the pitch trim system 2 and its possibility to deflect the trimmable horizontal stabilizer (THS) at high speed of trim. The MCAI states that the refined study of an in-service event has evidenced the need to perform a periodic test of pitch trim system 2. In the conditions of overriding the automatic pitch torque limiter, the clutch of the pitch trim servo-motor 1 is opened so that electric pitch trim system 1 will disconnect. The question is pending about the availability of the system 2 and its capability to take over the pitch trim function, particularly during a go-around. Failure of pitch trim system 2 to deflect the THS at maximum rate could result in loss of high-speed trim and consequent reduced controllability of the airplane.

Comments

We gave the public the opportunity to participate in developing this AD. We have considered the comments received from one commenter.

Request To Publish Service Information/Incorporate by Reference in NPRM

The Modification and Replacement Parts Association (MARPA) states that airworthiness directives (ADs) are based on service information that originates from the type certificate holder or its suppliers. MARPA adds that manufacturer's service documents are privately authored instruments, generally having copyright protection against duplication and distribution. MARPA states that when a service document is incorporated by reference into a public document, such as an AD, pursuant to 5 U.S.C. 552(a) and 1 CFR part 51, it loses its private, protected status and becomes a public document. MARPA notes that if a service document is used as a mandatory element of compliance it should not simply be referenced, but should be incorporated by reference. MARPA believes that public laws, by definition, should be public, which means they cannot rely upon private writings for compliance. MARPA adds that the legal interpretation of a document is a question of law, not of fact; therefore, unless the service document is incorporated by reference it cannot be considered. MARPA is concerned that failure to incorporate essential service information could result in a court decision invalidating the AD.

MARPA also states that service documents incorporated by reference should be made available to the public by publication in the Docket Management System (DMS), keyed to the action that incorporates those documents. MARPA notes that the stated purpose of the incorporation by reference method is brevity, to keep from expanding the Federal Register needlessly by publishing documents already in the hands of the affected individuals. MARPA adds that, traditionally, “affected individuals” means aircraft owners and operators, who are generally provided service information by the manufacturer. MARPA adds that, a new class of affected individuals has emerged, since the majority of aircraft maintenance is now performed by specialty shops instead of aircraft owners and operators. MARPA notes that this new class includes maintenance and repair organizations, component servicing, and/or servicing alternatively certified parts under part 21 of the Federal Aviation Regulations (14 CFR part 21), section 21.303 (“parts manufacturer approval” (PMA)). MARPA notes that distribution to owners when the owner is a financing or leasing institution, may not actually reach the people responsible for accomplishing the AD. Therefore, MARPA asks that the service documents deemed essential to the accomplishment of the NPRM be incorporated by reference into the regulatory instrument and published in DMS.

We do not agree that documents should be incorporated by reference during the NPRM phase of rulemaking. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, as noted by the commenter, they do not lose their copyright protection. For that reason, we advise the public to contact the manufacturer to obtain copies of the referenced service information.

In regard to MARPA's request to post service bulletins on the Department of Transportation's DMS, we are currently in the process of reviewing issues surrounding the posting of service bulletins on the DMS as part of an AD docket. Once we have thoroughly examined all aspects of this issue and have made a final determination, we will consider whether our current practice needs to be revised. No change to the AD is necessary in response to these comments.

Request To Change Applicability

The Air Transport Association (ATA), on behalf of one of its members, American Airlines, asks that the applicability in the NPRM be changed. American Airlines states that it does not believe the NPRM is applicable to Model A300-B4-605R airplanes, but could not conclude that directly from the NPRM. The ATA states that, in the actions and compliance section of the NPRM, the FAA references the instructions of Airbus Service Bulletin A300-22-0121, dated July 11, 2005, which confirms it is valid for Model A300 airplanes, except for the forward facing crew cockpit (FFCC) versions and Model A300-600 series airplanes. The ATA adds that the applicability section in the NPRM should be changed to correctly call out only the airplanes that are covered by the service bulletin.

We find that clarification of the applicability section in the AD is necessary. The applicability section in this AD duplicates that of the referenced French airworthiness directive, which applies only to Model A300 airplanes, except for Model A300 B4-203 and A300 B2-203 in the FFCC configuration. Model A300-600 series airplanes are not subject to the requirements of that airworthiness directive. To ensure clear and enforceable language in the applicability of this AD, we have revised the applicability section to specify the affected models as listed on the type certificate data sheet.

Explanation of Change to Costs of Compliance

Since issuance of the NPRM, we have determined that the estimated cost did not include the cost for the 3 work hours necessary to accomplish the repair and follow-on test; however, the number of work hours was specified. The cost impact information, below, has been revised to indicate the higher amount.

Conclusion

We have carefully reviewed the available data, including the comments received, and determined that air safety and the public interest require adopting the AD with the change described previously. This change will neither increase the economic burden on any operator nor increase the scope of the AD.

Differences Between This AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow our FAA policies. Any such differences are described in a separate paragraph of the AD. These requirements, if any, take precedence over the actions copied from the MCAI.

Costs of Compliance

We estimate that this AD will affect 29 products of U.S. registry. We also estimate that it will take about 1 work hour per product to do the periodic test and 3 work hours to do the repair and follow-on test, and that the average labor rate is $80 per work hour. Required parts will cost $0 per product. Based on these figures, we estimate the cost of the AD to the U.S. operators to be $9,280, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2006-25-03 Airbus: Amendment 39-14844. Docket No. FAA-2006-25634; Directorate Identifier 2006-NM-143-AD.

Effective Date

(a) This airworthiness directive (AD) becomes effective January 11, 2007.

Affected ADs

(b) None.

Applicability

(c) This AD applies to Airbus Model A300 B2-1A, B2-1C, B2K-3C, B2-203, B4-2C, B4-103, and B4-203 airplanes; all serial numbers; certificated in any category; except for Model A300 B4-203 and A300 B2-203 airplanes in a forward facing crew cockpit certified configuration.

Reason

(d) The refined study of an in-service event has evidenced the need to perform a periodic test of pitch trim system 2. In the conditions of overriding the automatic pitch torque limiter, the clutch of the pitch trim servo-motor 1 is opened so that electric pitch trim system 1 will disconnect. The question is pending about the availability of the system 2 and its capability to take over the pitch trim function, particularly during a go-around. Failure of pitch trim system 2 to deflect the trimmable horizontal stabilizer (THS) at maximum rate could result in loss of high-speed trim and consequent reduced controllability of the airplane. For such reason, this AD renders mandatory a periodic test to ensure the availability of the pitch trim system 2 and its possibility to deflect the THS at high speed of trim.

Actions and Compliance

(e) Unless already done, do the following actions except as stated in paragraph (f) below:

(1) Within 250 flight hours after the effective date of this AD: Perform an operational test of pitch trim system 2 in high speed of trim configuration and if system 2 does not function as specified in the instructions of Airbus Service Bulletin A300-22-0121, dated July 11, 2005; before further flight, return the system to correct operating condition in accordance with the instructions of the service bulletin.

(2) The operational test, followed, if necessary, by the corrective action described in the paragraph above, is to be repeated at intervals not exceeding 1,000 flight hours in accordance with the instructions of Airbus Service Bulletin A300-22-0121, dated July 11, 2005.

FAA AD Difference

(f) When complying with this AD, do the following: Although the Accomplishment Instructions of the referenced service bulletin describe procedures for submitting certain information to the manufacturer, this AD does not include that requirement.

Other FAA AD Provisions

(g) The following provisions also apply to this AD:

(1) Alternative Methods of Compliance (AMOCs): The Manager, International Branch, ANM-116, Transport Airplane Directorate, FAA, ATTN: Tom Stafford, Aerospace Safety Engineer, 1601 Lind Avenue, SW., Renton, Washington 98057-3371; telephone (425) 227-1622; fax (425) 227-1149; has the authority to approve AMOCs for this AD, if requested using the procedures found in 14 CFR 39.19.

(2) Notification of Principal Inspector: Before using any AMOC approved in accordance with 14 CFR 39.19 on any airplane to which the AMOC applies, notify the appropriate principal inspector in the FAA Flight Standards Certificate Holding District Office.

(3) Return to Airworthiness: When complying with this AD, perform FAA-approved corrective actions before returning the product to an airworthy condition.

Related Information

(h) This AD is related to MCAI French airworthiness directive F-2005-157, dated September 14, 2005, which references Airbus Service Bulletin A300-22-0121, dated July 11, 2005, for information on required actions.

Material Incorporated by Reference

(i) You must use Airbus Service Bulletin A300-22-0121, excluding Appendix 01, dated July 11, 2005, to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the Transport Airplane Directorate, FAA, 1601 Lind Avenue, SW., Renton, Washington 98057-3371; or at the National Archives and Records Administration (NARA). For information on the availability of this material at NARA, call 202-741-6030, or go to: http://www.archives.gov/federal-register/cfr/ibr-locations.html.

Issued in Renton, Washington, on November 20, 2006.
Ali Bahrami,
Manager, Transport Airplane Directorate, Aircraft Certification Service.

[FR Doc. E6-20617 Filed 12-6-06; 8:45 am]

BILLING CODE 4910-13-P